DEPARTMENT OF COMMERCE

National Oceanic and Atmospheric Administration

Federal Consistency Appeal by Jordan Cove Energy Project, L.P. and Pacific Connector Gas Pipeline, LP

AGENCY: National Oceanic and Atmospheric Administration (NOAA), Department of Commerce (DOC).

ACTION: Notice of stay—closure of administrative appeal decision record.

SUMMARY: This announcement provides notice that the Department of Commerce has stayed, for a period of 60 days, closure of the decision record in an administrative appeal filed by Jordan Cove Energy Project, L.P. and Pacific Connector Gas Pipeline, LP (collectively, “Appellants”) under the Coastal Zone Management Act. Appellants appealed to the Secretary of Commerce to override an objection by the Oregon Department of Land Conservation and Development to a consistency certification for a proposed project to construct and operate a liquified natural gas export terminal and a 229-mile natural gas pipeline and compressor station off the Pacific Coast.

DATES: The decision record for Appellants' federal consistency appeal of Oregon Department of Land Conservation and Development's objection will now close on November 27, 2020.

ADDRESSES: NOAA has provided access to publicly available materials and related documents comprising the appeal record on the following website: https://www.regulations.gov/docket?D=NOAA-HQ-2020-0058.

FOR FURTHER INFORMATION CONTACT: For questions about this Notice, contact Rachel Morris, Attorney-Advisor, NOAA Office of the General Counsel, Oceans and Coasts Section, and Patrick Carroll, Attorney-Advisor, NOAA Office of the General Counsel, Oceans and Coasts Section, at jordancove.appeal@noaa.gov or (301) 713-7387.

SUPPLEMENTARY INFORMATION: On March 20, 2020, the NOAA Administrator, pursuant to authority delegated by the Secretary of Commerce to decide Coastal Zone Management Act of 1972 (CZMA) federal consistency appeals, received a “Notice of Appeal” filed by Jordan Cove Energy Project, L.P. and Pacific Connector Gas Pipeline, LP (collectively, “Appellants”) under the CZMA, 16 U.S.C. 1451 et seq., and implementing regulations found at 15 CFR part 930, subpart H. The Notice of Appeal is taken from an objection by the Oregon Department of Land Conservation and Development to Appellants' consistency certification for a proposed project to construct and operate a liquified natural gas export terminal and a 229-mile natural gas pipeline and compressor station off the Pacific Coast. This matter constitutes an appeal of an “energy project” within the meaning of the CZMA regulations. See 15 CFR 930.123(c).

Under the CZMA, the NOAA Administrator may override Oregon Department of Land Conservation and Development's objection on grounds that the project is consistent with the objectives or purposes of the CZMA, or is necessary in the interest of national security. To make the determination that the proposed activity is “consistent with the objectives or purposes of the CZMA,” the Department of Commerce must find that: (1) The proposed activity furthers the national interest as articulated in sections 302 or 303 of the CZMA, in a significant or substantial manner; (2) the national interest furthered by the proposed activity outweighs the activity's adverse coastal effects, when those effects are considered separately or cumulatively; and (3) no reasonable alternative is available that would permit the proposed activity to be conducted in a manner consistent with the enforceable policies of the applicable coastal management program. 15 CFR 930.121. To make the determination that the proposed activity is “necessary in the interest of national security,” the Department of Commerce must find that a national defense or other national security interest would be significantly impaired if the proposed activity is not permitted to go forward as proposed. 15 CFR 930.122.

The NOAA Administrator must close the decision record in a federal consistency appeal 160 days after the Notice of Appeal is published in the Federal Register. 15 CFR 930.130(a)(1). However, the CZMA authorizes the NOAA Administrator to stay the closing of the decision record for up to 60 days when the NOAA Administrator determines it is necessary to receive, on an expedited basis, any supplemental information specifically requested by the NOAA Administrator to complete a consistency review or any clarifying information submitted by a party to the proceeding related to information in the consolidated record compiled by the lead Federal permitting agency. 15 CFR 930.130(a)(2), (3).

After reviewing the decision record developed to date, the NOAA Administrator has decided to solicit supplemental and clarifying information. In order to allow time for the receipt of this information, the NOAA Administrator hereby stays closure of the decision record, currently scheduled to occur on September 28, 2020, until November 27, 2020.

NOAA has provided access to publicly available materials and related documents comprising the appeal record on the following website: https://www.regulations.gov/docket?D=NOAA-HQ-2020-0058.

Adam Dilts,
Chief, Oceans and Coasts Section, NOAA Office of the General Counsel.

[FR Doc. 2020-20869 Filed 9-25-20; 8:45 am]

BILLING CODE 3510-JE-P